INTERNATIONAL TRADE COMMISSION

[Investigation No. 337-TA-738]

Certain Components for Installation of Marine Autopilots With GPS or IMU; Termination of Investigation on the Basis of Settlement

AGENCY: U.S. International Trade Commission.

ACTION: Notice.

SUMMARY: Notice is hereby given that the U.S. International Trade Commission has determined not to review the presiding administrative law judge's initial determination (“ID”) (Order No. 26) granting a joint motion to terminate the investigation as to the last remaining respondents on the basis of a settlement agreement, and terminating the investigation in its entirety.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 28, 2010, based on a complaint filed by American GNC of Simi Valley, California (“AGNC”), alleging a violation of section 337 of the Tariff Act of 1930, as amended, 19 U.S.C. 1337, in the importation, sale for importation, and sale within the United States after importation of certain components for installation of marine autopilots with GPS or IMU (i.e., devices for pointing and stabilizing marine navigation equipment) by reason of infringement of certain claims of U.S. Patent No. 6,596,976. The complaint named eight respondents: Furuno Electronics Co. of Nishinomiya City, Japan and Furuno U.S.A. Inc. of Camas, Washington (collectively “Furuno”); Navico Holdings AS of Lysaker, Norway, Navico UK, Ltd. of Romsey Hampshire, United Kingdom, and Navico, Inc. of Nashua, New Hampshire (collectively “Navico”); and Raymarine UK Ltd. of Portsmouth, Hampshire, United Kingdom; Raymarine Inc. of Merrimack, New Hampshire; and FLIR Systems, Inc. of Wilsonville, Oregon (collectively “Raymarine”).

On June 8, 2011, the Commission determined not to review the ALJ's IDs terminating the investigation as to Furuno and Raymarine on the basis of settlement agreements.

On November 28, 2011, AGNC and Navico jointly moved to terminate the investigation as to the Navico respondents on the basis of a settlement agreement. The Commission investigative attorney supported the motion. On December 6, 2011, the ALJ granted the motion. Order No. 26. Because the Navico parties are the last remaining respondents, termination against Navico results in termination of the investigation.

No petitions for review of the ID were filed. The Commission has determined not to review the ID.

The authority for the Commission's determination is contained in section 337 of the Tariff Act of 1930, as amended (19 U.S.C. 1337), and in sections 210.21 and 210.42 of the Commission's Rules of Practice and Procedure (19 CFR 210.21, 210.42).

By order of the Commission.
Issued: December 30, 2011.
James R. Holbein,
Secretary to the Commission.

[FR Doc. 2012-14 Filed 1-5-12; 8:45 am]

BILLING CODE 7020-02-P